DEPARTMENT OF THE INTERIOR

Bureau of Land Management

[LLWY9250000-L14400000-ET0000; WYW-149140]

Public Land Order No. 7906 ; Extension of Public Land Order No. 7513; Withdrawal of National Forest System Land for the Tie Hack Campground, Wyoming

AGENCY: Bureau of Land Management, Interior.

ACTION: Public Land Order.

SUMMARY: This order extends the duration of the withdrawal created by Public Land Order (PLO) No. 7513, which would otherwise expire on February 20, 2022, for an additional 20-year period. PLO No. 7513 withdrew 20.90 acres of National Forest System land from location and entry under the United States mining laws, but not from the general land laws or mineral leasing laws. The withdrawal extension is necessary to continue protection of the Tie Hack Campground in Johnson County, Wyoming, which would otherwise expire on February 20, 2022.

DATES: This PLO takes effect on February 21, 2022.

FOR FURTHER INFORMATION CONTACT: Keesha Clay, Realty Specialist, at telephone: (307) 775-6189, email: kclay@blm.gov; Bureau of Land Management, Wyoming State Office, 5353 Yellowstone Rd, Cheyenne, Wyoming 82009. Persons who use a telecommunications device for the deaf may call the Federal Relay Service (FRS) at (800) 877-8339 to contact Keesha Clay. The FRS is available 24 hours a day, 7 days a week, to leave a message or question. You will receive a reply during normal business hours.

SUPPLEMENTARY INFORMATION: This Order extends the existing withdrawal to continue protection of the Tie Hack Campground and the capital investments associated with it.

Order

By virtue of the authority vested in the Secretary of the Interior by Section 204 of the Federal Land Policy and Management Act of 1976, 43 U.S.C. 1714, it is ordered as follows:

PLO No. 7513 (67 FR 8036 (2002)), which withdrew 20.90 acres of National Forest System land from location and entry under the United States mining laws, but not from the general land laws or mineral leasing laws, to protect the Tie Hack Campground facility, is hereby extended for an additional 20-year period.

This withdrawal will expire 20 years from the effective date of this Order unless, as a result of a review conducted prior to the expiration date pursuant to Section 204(f) of the Federal Land Policy and Management Act of 1976, 43 U.S.C. 1714(f), the Secretary determines that the withdrawal shall be further extended.

(Authority: 43 U.S.C. 1714)

Shannon A. Estenoz,
Assistant Secretary for Fish and Wildlife and Parks.

[FR Doc. 2022-03839 Filed 2-22-22; 8:45 am]

BILLING CODE 3411-15-P